FEDERAL MARITIME COMMISSION

Ocean Transportation Intermediary License Revocations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 4023F.

Name: Shuh-Liang Huo d/b/a Argosy International Co.

Address: 5572 Lutford Circle, Westminister, CA 92683.

Date Revoked: September 22, 2000.

Reason: Surrendered license voluntarily.

License Number: 15217N.

Name: Caribbean Containers, Inc.

Address: Calle John Albert Ernd, Urb.Ind.Bechara, Puerblo Viejo Puerto Nuevo, San Juan, PR 00920.

Date Revoked: October 21, 2000.

Reason: Failed to maintain a valid bond.

License Number: 15204N.

Name: Executive Freight Services, Inc.

Address: 3848 Salem Road, P.O. Box 310195, Enterprise, AL 36301.

Date Revoked: October 11, 2000.

Reason: Failed to maintain a valid bond.

License Number: 16705NF.

Name: HR Services.

Address: TDK House, 5/7 Queensway, Redhill, Surrey RH1 1YB, United Kingdom.

Date Revoked: September 27, 2000.

Reason: Surrendered license voluntarily.

License Number: 4305F.

Name: Jeffrey Oh d/b/a Penn Int'l Co.

Address: 22533 S. Vermont Avenue, #20, Torrance, CA 90502.

Date Revoked: October 21, 2000.

Reason: Failed to maintain a valid bond.

License Number: 4376F.

Name: Paccent Express Line Co.

Address: 11099 S. La Cienega Blvd., Suite 207, Los Angeles, CA 90045.

Date Revoked: October 12, 2000.

Reason: Surrendered license voluntarily.

License Number: 15125N.

Name: Sea-Air-Land International Services, Inc.

Address: 7365 35th Street, Miami, FL 33122.

Date Revoked: October 21, 2000.

Reason: Failed to maintain a valid bond.

License Number: 13748N.

Name: United Logistics Services, Inc. d/b/a A.N.C. International.

Address: 1699 Wall Street, Suite 112, Mount Prospect, IL 60010.

Date Revoked: October 6, 2000.

Reason: Failed to maintain a valid bond.

License Number: 13495N.

Name: Wintrade Forwarding Agent, Inc.

Address: 1378 N.W. 78th Avenue, Miami, FL 33126.

Date Revoked: October 12, 2000.

Reason: Failed to maintain a valid bond.

Sandra L. Kusumoto,
Director, Bureau of Consumer Complaints and Licensing.

[FR Doc. 00-28664 Filed 11-7-00; 8:45 am]

BILLING CODE 6730-01-U